DEPARTMENT OF TRANSPORTATION

Federal Aviation Administration

14 CFR Part 71

[Airspace Docket No. 99-ASO-17]

Establishment of Class E Airspace; Puerto Rico, PR

AGENCY: Federal Aviation Administration (FAA), DOT.

ACTION: Final rule; correction.

SUMMARY: This action corrects errors in the geographic coordinates of a final rule that was published in the Federal Register on January 18, 2000, (65 FR 2538), Airspace Docket No. 99-ASO-17.

EFFECTIVE DATE: This correction is effective February 8, 2000.

FOR FURTHER INFORMATION CONTACT: Nancy B. Shelton, Manager, Airspace Branch, Air Traffic Division, Federal Aviation Administration, P.O. Box 20636, Atlanta, Georgia 30320; telephone (404) 305-5627.

SUPPLEMENTARY INFORMATION:

History

Federal Register Document DOCID: fr18ja00-6, Airspace Docket No. 99-ASO-17, published on January 18, 2000, (65 FR 2538), amended Class E airspace at Puerto Rico, PR. Errors were discovered in the geographic coordinates of the San Juan Fernando Luis Ribas Dominicci Airport, PR, and in the airspace description. This action corrects those errors.

Correction to Final Rule

Accordingly, pursuant to the authority delegated to me, the geographic coordinates for San Juan Fernando Luis Ribas Dominicci Airport, PR, and the airspace description as published in the Federal Register on January 18, 2000 (65 FR 2538) (Federal Register Document DOCID: fr18ja00-6: page 2538, column 3 and page 2539, column 1), are corrected as follows:

§ 71.71 [Corrected]

* * * * *

ASO PR E Puerto Rico, PR [Corrected]

By removing “Lat. 18°27′41″ N, long. 66°05′89″ W” and substituting “lat. 18°27′25″ N, long. 66°05′53″ W” for the airport coordinates, and by removing “long. 5°45′ W” and substituting “long. 65°45′ W” in the airspace description.

* * * * *

Issued in College Park, Georgia, on January 26, 2000.
Wade T. Carpenter,
Acting Manager, Air Traffic Division, Southern Region.

[FR Doc. 00-2774 Filed 2-7-00; 8:45 am]

BILLING CODE 4910-13-M